DEPARTMENT OF HOMELAND SECURITY

Coast Guard

33 CFR Part 165

[Docket No. USCG-2017-0418]

Multiple Safety Zones; Fireworks Displays in Captain of the Port New York Zone

AGENCY: Coast Guard, DHS.

ACTION: Notice of enforcement of regulation.

SUMMARY: The Coast Guard will enforce various safety zones within the Captain of the Port New York Zone on the specified dates and times. This action is necessary to ensure the safety of vessels, spectators and participants from hazards associated with fireworks displays and swim events. During the enforcement period, no person or vessel may enter the safety zones without permission of the Captain of the Port (COTP).

DATES: The regulation for the safety zones described in 33 CFR 165.160 will be enforced on the dates and times listed in the table below.

FOR FURTHER INFORMATION CONTACT: If you have questions on this document, call or email Petty Officer First Class Ronald Sampert U.S. Coast Guard; telephone 718-354-4197, email ronald.j.sampert@uscg.mil.

SUPPLEMENTARY INFORMATION: The Coast Guard will enforce the safety zones listed in 33 CFR 165.160 on the specified dates and times as indicated in the Table below. This regulation was published in the Federal Register on November 9, 2011 (76 FR 69614).

Table 1
1. Orchard Beach, The Bronx Safety Zone, 33 CFR 165.160(3.11) | • Launch site: All waters of Long Island Sound in an area bound by the following points: 40°51′43.5″ N. 073°47′36.3″ W.; thence to 40°52′12.2″ N. 073°47′13.6″ W.; thence to 40°52′02.5″ N. 073°46′47.8″ W.; thence to 40°51′32.3″ N. 073°47′09.9″ W. (NAD 1983), thence to the point of origin.
| • Date: June 29, 2017.
| • Time: 9:00 p.m.-10:00 p.m.
2. Fort Hamilton Safety Zone, 33 CFR 165.160(2.14) | • Launch site: A barge located in approximate position 40°36′00″ N. 074°01′42.5″ W. (NAD 1983) approximately 1400 yards southeast of the Verrazano-Narrows Bridge. This Safety Zone is a 240-yard radius from the barge.
| • Date: July 1, 2017.
| • Time: 9:30 p.m.-10:15 p.m.
3. Glen cove, Hempstead Harbor Safety Zone, 33 CFR 165.160(3.8) | • Launch site: A barge located in approximate position 40°51′58″ N. 073°39′34″ W. (NAD 1983) approximately 500 yards northeast of Glen Cove Breakwater Light 5 (LLNR 27065). This Safety Zone is a 360-yard radius from the barge.
| • Date: July 4, 2017.
| • Time: 9:00 p.m.-10:00 p.m.
4. Ellis Island Safety Zone, 33 CFR 165.160(2.2) | • Launch site: A barge located between Federal Anchorages 20-A and 20-B, in approximate position 40°41′45″ N. 074°02′09″ W. (NAD 1983) about 365 yards east of Ellis Island. This Safety Zone is a 360-yard radius from the barge.
| • Date: July 6, 2017.
| • Time: 9:00 p.m.-10:00 p.m.
5. Ellis Island Safety Zone, 33 CFR 165.160(2.2) | • Launch site: A barge located between Federal Anchorages 20-A and 20-B, in approximate position 40°41′45″ N. 074°02′09″ W. (NAD 1983) about 365 yards east of Ellis Island. This Safety Zone is a 360-yard radius from the barge.
| • Date: September 9, 2017.
| • Time: 8:00 p.m.-8:30 p.m.
6. Ellis Island Safety Zone, 33 CFR 165.160(2.2) | • Launch site: A barge located between Federal Anchorages 20-A and 20-B, in approximate position 40°41′45″ N. 074°02′09″ W. (NAD 1983) about 365 yards east of Ellis Island. This Safety Zone is a 360-yard radius from the barge.
| • Date: October 25, 2017.
| • Time: 9:00 p.m.-9:10 p.m.

Under the provisions of 33 CFR 165.160, vessels may not enter the safety zones unless given permission from the COTP or a designated representative. Spectator vessels may transit outside the safety zones but may not anchor, block, loiter in, or impede the transit of other vessels. The Coast Guard may be assisted by other Federal, State, or local law enforcement agencies in enforcing this regulation.

This document is issued under authority of 33 CFR 165.160(a) and 5 U.S.C. 552(a). In addition to this notification in the Federal Register, the Coast Guard will provide mariners with advanced notification of enforcement periods via the Local Notice to Mariners and marine information broadcasts. If the COTP determines that a safety zone need not be enforced for the full duration stated in this notice, a Broadcast Notice to Mariners may be used to grant general permission to enter the safety zone.

Dated: May 24, 2017.
M.H. Day,
Captain, U.S. Coast Guard, Captain of the Port New York.

[FR Doc. 2017-12113 Filed 6-12-17; 8:45 am]

BILLING CODE 9110-04-P